DEPARTMENT OF AGRICULTURE

Forest Service

Meeting of the Land Between The Lakes Advisory Board

AGENCY: Forest Service, USDA.

ACTION: Notice of meeting.

SUMMARY: The Land Between The Lakes Advisory Board will hold a meeting on Tuesday, April 8, 2003. Notice of this meeting is given under the Federal Advisory Committee Act, 5 U.S.C. App.2.

The meeting agenda includes the following:

(1) Welcome/Introductions/Agenda

(2) General Information Update on Land Between The Lakes

(3) Update on Environmental Education Projects

(4) Land and Resource Management Planning—Appreciative Inquiry Process

(5) Presentation by Mr. David Nickell, representing Concept Zero

(6) Review of Public Comments Received

The meeting is open to the public. Written comments are invited and may be mailed to: William P. Lisowsky, Area Supervisor, Land Between The Lakes, 100 Van Morgan Drive, Golden Pond, Kentucky 42211. Written comments must be received at Land Between The Lakes by March 31, 2003, in order for copies to be provided to the members at the meeting. Board members will review written comments received, and at their request, oral clarification may be requested at a future meeting. At this meeting on April 8, 2003, Mr. David Nickell, representing Concept Zero, will make an oral presentation approved by the Board at the October 2002 meeting.

DATES: The meeting will be held on Tuesday, April 8, 2003, 8:30 a.m. to 3:30 p.m., CDT.

ADDRESSES: The meeting will be held at the Stewart County Public Library, 102 Natcor Road, Dover TN, and will be open to the public.

FOR FURTHER INFORMATION CONTACT: Sharon Byers, Advisory Board Liaison, Land Between The Lakes, 100 Van Morgan Drive, Golden Pond, Kentucky 42211, 270-924-2002.

SUPPLEMENTARY INFORMATION: None.

Dated: March 14, 2003.
William P. Lisowsky,
Area Supervisor, Land Between The Lakes.

[FR Doc. 03-6678 Filed 3-19-03; 8:45 am]

BILLING CODE 3410-11-P